Proclamation 8723 of October 3, 2011

National Arts And Humanities Month, 2011

By the President of the United States of America

A Proclamation

Norman Rockwell’s magazine covers are classic and recognizable portrayals of American life. A longtime advocate of tolerance, Rockwell was criticized by some for a painting now hanging steps from the Oval Office—The Problem We All Live With. Inspired by the story of Ruby Bridges, this painting depicts a young girl being escorted to her newly-integrated school by United States Marshals. Today, the portrait remains a symbol of our Nation’s struggle for racial equality.

Like Rockwell’s painting, art in all its forms often challenges us to consider new perspectives and to rethink how we see the world. This image still moves us with its simple poignancy, capturing a moment in American history that changed us forever. This is the power of the arts and humanities—they speak to our condition and affirm our desire for something more and something better. Great works of literature, theater, dance, fine art, and music reach us through a universal language that unites us regardless of background, gender, race, or creed.

Millions of Americans earn a living in the arts and humanities, and the non-profit and for-profit arts industries are important parts of both our cultural heritage and our economy. The First Lady and I have been proud to honor this work by displaying American art at the White House and by hosting music, dance, poetry, and film performances and screenings. The President’s Committee on the Arts and the Humanities, along with the National Endowment for the Arts, the National Endowment for the Humanities, and the Institute of Museum and Library Services continues to recognize the skill and creativity of American artists, historians, and philosophers while helping educate and inspire our children through the power of the arts and humanities.

We must recognize the contributions of the arts and humanities not only by supporting the artists of today, but also by giving opportunities to the creative thinkers of tomorrow. Educators across our country are opening young minds, fostering innovation, and developing imaginations through arts education. Through their work, they are empowering our Nation’s students with the ability to meet the challenges of a global marketplace. It is a well-rounded education for our children that will fuel our efforts to lead in a new economy where critical and creative thinking will be the keys to success.

Today, the arts and humanities continue to break social and political barriers. Throughout our history, American hopes and aspirations have been captured in the arts, from the songs of enslaved Americans yearning for freedom to the films that grace our screens today. This month, we celebrate the enlightenment and insight we have gained from the arts and humanities, and we recommit to supporting expression that challenges our assumptions, sparks our curiosity, and continues to drive us toward a more perfect union.

NOW, THEREFORE, I, BARACK OBAMA, President of the United States of America, by virtue of the authority vested in me by the Constitution and the laws of the United States, do hereby proclaim October 2011 as National Arts and Humanities Month. I call upon the people of the United States to join together in observing this month with appropriate ceremonies, activities, and programs to celebrate the arts and the humanities in America.

IN WITNESS WHEREOF, I have hereunto set my hand this third day of October, in the year of our Lord two thousand eleven, and of the Independence of the United States of America the two hundred and thirty-sixth.

[FR Doc. 2011-26142

Filed 10-6-11; 8:45 am]

Billing code 3295-F2-P